FEDERAL MARITIME COMMISSION

[Docket No. 02-08]

Odyssey Stevedoring of Puerto Rico, Inc. v. Puerto Rico Port Authority; Notice of Filing of Complaint and Assignment

Notice is given that a complaint has been filed with the Federal Maritime Commission (“Commission”) by Odyssey Stevedoring of Puerto Rico, Inc. (“Complainant”) against the Puerto Rico Port Authority (“PRPA”).

Complainant contends that PRPA engaged in a number of activities in connection with negotiating and entering into maritime terminal leases and agreements, including preferential use, berthing and warehousing agreements, which violated sections 10(d)(1), 10(d)(2), and 10(d)(4) of the Shipping Act of 1984 and injured the Complainant.

Complainant asks that PRPA be compelled to answer its charges and that the Commission order PRPA to: Cease and desist from these violations; re-apportion certain terminal facilities located at the Port of San Juan between the remaining stevedoring and marine terminal companies, including Complainant; and take such further and other actions as to afford preferential usage, including berthing, warehousing and open spaces, as the Commission establishes as necessary to restore competition in regard to stevedoring and breakbulk services in the Port of San Juan. The Complainant also requests the Commission to award it damages in an amount reflecting Complainant's lost business and profits; the amounts which Complainant has paid pursuant to PRPA's tariff which exceed the amounts Complainant would have paid pursuant to certain PRPA preferential use and exclusive use agreements, and such other further relief as the Commission determines just and proper in the circumstances.

This proceeding has been assigned to the office of Administrative Law Judges. Hearing in this matter, if any is held, shall commence within the time limitations prescribed in 46 CFR 502.61, and only after consideration has been given by the parties and the presiding officer to the use of alternative forms of dispute resolution. The hearing shall include oral testimony and cross-examination in the discretion of the presiding officer only upon proper showing that there are genuine issues of material fact that cannot be resolved on the basis of sworn statements, affidavits, depositions, or other documents or that the nature of the matter in issue is such that an oral hearing and cross-examination are necessary for the development of an adequate record. Pursuant to the further terms of 46 CFR 502.61, the initial decision of the presiding officer in this proceeding shall be issued by June 3, 2003, and the final decision of the Commission shall be issued by October 1, 2003.

Bryant L. VanBrakle,
Secretary.

[FR Doc. 02-14411 Filed 6-7-02; 8:45 am]

BILLING CODE 6730-01-M